DEPARTMENT OF DEFENSE

Department of the Army

Final Environmental Assessment and Finding of No Significant Impact for BRAC 95 Disposal and Reuse of Camp Bonneville, WA

AGENCY: Department of the Army, DoD.

ACTION: Notice of availability.

SUMMARY: In accordance with Public Law 101-510 (as amended), the Defense Base Closure and Realignment Act of 1990, the Defense Base Closure and Realignment Commission recommended the closure of Camp Bonneville, Washington.

The Final Environmental Assessment (EA) evaluates the environmental impacts of the disposal and subsequent reuse of the 3,020-acre installation. Alternatives examined in the EA include encumbered disposal of the property, unencumbered disposal of the property, and no action. Encumbered disposal refers to transfer or conveyance of property having restrictions on subsequent use as a result of any Army imposed or legal restraint. Under the no action alternative, the Army would not dispose of property but would maintain it in caretaker status for an indefinite period.

DATES: Comments must be submitted on or before November 19, 2001.

ADDRESSES: A copy of the EA may be obtained by writing to Mr. Ken Brunner, U.S. Army Corps of Engineers, Seattle District (ATTN: CENWS-ED-TB-ER), 4735 East Marginal Way South, Seattle, WA 98124-2255.

FOR FURTHER INFORMATION CONTACT: Mr. Ken Brunner by fax at (206) 764-4470.

SUPPLEMENTARY INFORMATION: While disposal of Camp Bonneville is the Army's primary action, the EA also analyzes the potential environmental effects of reuse as a secondary action by means of evaluating intensity-based reuse scenarios. The Army's preferred alternative for disposal of Camp Bonneville property is encumbered disposal, with encumbrances pertaining to the possible presence of unexploded ordnance, lead-based paint and asbestos-containing material, protection of wetlands and compliance with the Endangered Species Act, as well as the requirement for a right of reentry for environmental clean-up.

A Notice of Intent (NOI) declaring the Army's intent to prepare an EA for the disposal and reuse of Camp Bonneville was published in the Federal Register (60 FR 49264, September 22, 1995).

The Army will consider comments received on this EA prior to initiating any action.

The Final EA and Finding of No Significant Impact are available for review at the Vancouver, Washington Public Library.

Dated: October 12, 2001.
Raymond J. Fatz,
Deputy Assistant Secretary of the Army (Environment, Safety and Occupational Health) OASA(I&E).

[FR Doc. 01-26434 Filed 10-18-01; 8:45 am]

BILLING CODE 3710-08-M